DEPARTMENT OF ENERGY

Federal Energy Regulatory Commission

Combined Notice of Filings #1

December 1, 2005.

Take notice that the Commission received the following electric rate filings:

Docket Numbers: ER01-2071-004.

Applicants: Desert Power LP.

Description: Desert Power LP submits Substitute Original Sheet No. 2A to its market-based rate tariff, FERC Electric Tariff, First Revised Volume No. 1, to revise Market Behavior Rule 2(b) to correct typographic error clarified by FERC's 5/19/04 Order.

Filed Date: 11/18/2005.

Accession Number: 20051122-0123.

Comment Date: 5 p.m. eastern time on Friday, December 9, 2005.

Docket Numbers: ER01-3023-002.

Applicants: Hinson Power Company, LLC.

Description: Hinson Power Co., LLC submits the Updated Market Power Analysis, as well as revisions to their market based rate schedule.

Filed Date: 11/14/2005.

Accession Number: 20051129-0221.

Comment Date: 5 p.m. eastern time on Friday, December 9, 2005.

Docket Numbers: ER05-1393-001.

Applicants: Entergy Services, Inc.

Description: Entergy Gulf States Inc. on behalf of Entergy Gulf States, Inc. submits Rate Schedule No. 82 formatted in compliance with Order 614.

Filed Date: 11/18/2005.

Accession Number: 20051122-0119.

Comment Date: 5 p.m. eastern time on Friday, December 9, 2005.

Docket Numbers: ER06-14-001.

Applicants: Cleco Power LLC.

Description: Cleco Power LLC submits an errata to two notices of cancellations submitted on 10/6/05 and 10/12/05 pursuant to section 205 of the Federal Power Act.

Filed Date: 11/16/2005.

Accession Number: 20051125-0163.

Comment Date: 5 p.m. eastern time on Thursday, December 8, 2005.

Docket Numbers: ER06-50-000.

Applicants: San Diego Gas & Electric Company.

Description: Errata to San Diego Gas & Electric Co. submits a compliance filing explaining its Cycle 2 Base transmission Revenue Requirements.

Filed Date: 11/08/2005.

Accession Number: 20051108-5045.

Comment Date: 5 p.m. eastern time on Friday, December 9, 2005.

Docket Numbers: ER06-93-001.

Applicants: CalPeak Power—Vaca Dixon, LLC.

Description: Calpeak Power LLC on behalf of Calpeak Power—Vaca Dixion LLC submits certain limited corrections to schedules to the Reliability Must-Run Service Agreement with the California ISO.

Filed Date: 11/18/2005.

Accession Number: 20051122-0124.

Comment Date: 5 p.m. eastern time on Friday, December 9, 2005.

Docket Numbers: ER06-227-000.

Applicants: California Independent System Operator Corporation.

Description: California Independent System Operator Corp submits an Interim Operations Agreement with the City and County of San Francisco pursuant to section 205 of the Federal Power Act.

Filed Date: 11/17/2005.

Accession Number: 20051122-0113.

Comment Date: 5 p.m. eastern time on Thursday, December 8, 2005.

Docket Numbers: ER06-228-000.

Applicants: Idaho Power Company.

Description: Idaho Power Co. corrects the designations on five sheets, First Revised Sheet No. 1 to FERC Electric Tariff, First Revised Volume No. 6l.

Filed Date: 11/18/2005.

Accession Number: 20051122-0114.

Comment Date: 5 p.m. eastern time on Friday, December 9, 2005.

Docket Numbers: ER06-229-000.

Applicants: Safeway Inc.

Description: Safeway Inc. submits a petition for acceptance of initial rate schedule, waivers and blanket authority.

Filed Date: 11/18/2005.

Accession Number: 20051122-0115.

Comment Date: 5 p.m. eastern time on Friday, December 9, 2005.

Docket Numbers: ER06-230-000.

Applicants: Wolverine Creek Energy LLC.

Description: Wolverine Creek Energy LLC submits application for market-based authorization and related waivers and pre-approvals.

Filed Date: 11/18/2005.

Accession Number: 20051122-0117.

Comment Date: 5 p.m. eastern time on Friday, December 9, 2005.

Docket Numbers: ER06-231-000.

Applicants: Entergy Services, Inc.

Description: Entergy Services, Inc. on behalf of Entergy Louisiana, Incand Entergy Gulf States, Inc seeks acceptance of the Amendment 4 to the Master Power Purchase and Sale Agreement pursuant to Section 205 of the Federal Power Act.

Filed Date: 11/18/2005.

Accession Number: 20051122-0116.

Comment Date: 5 p.m. eastern time on Friday, December 9, 2005.

Docket Numbers: ER06-232-000.

Applicants: PJM Interconnection LLC.

Description: PJM Interconnection, LLC submits revisions to the Amended and Restated Operating Agreement pursuant to section 205 of the Federal Power Act.

Filed Date: 11/18/2005.

Accession Number: 20051122-0118.

Comment Date: 5 p.m. eastern time on Friday, December 9, 2005.

Docket Numbers: ER06-233-000.

Applicants: Mountainview Power Company, LLC.

Description: Mountainview Power Co LLC submits support for the cost of capital included in Schedule 7.01 of the Power Purchase Agreement with Southern California Edison Co in compliance with FERC's 2/25/04 Order.

Filed Date: 11/21/2005.

Accession Number: 20051123-0031.

Comment Date: 5 p.m. eastern time on Monday, December 12, 2005.

Docket Numbers: ER06-235-000.

Applicants: E Minus LLC.

Description: E Minus LLC submits a Petition for acceptance of initial rate schedule, waivers and blanket authority.

Filed Date: 11/21/2005.

Accession Number: 20051125-0167.

Comment Date: 5 p.m. eastern time on Monday, December 12, 2005.

Docket Numbers: ER99-1005-005; ER02-725-005; ER05-1411-000; EL05-3-000.

Applicants: Kansas City Power & Light Company.

Description: Kansas City Power & Light Co submits revisions to its market-based rate tariff, incorporating the language directed in the October 21 Order.

Filed Date: 11/18/2005.

Accession Number: 20051122-0122.

Comment Date: 5 p.m. eastern time on Friday, December 9, 2005.

Docket Numbers: ER99-3282-005.

Applicants: ATCO Power Canada Limited.

Description: ATCO Power Canada Ltd submits a report of changes in status and an updated market analysis.

Filed Date: 11/21/2005.

Accession Number: 20051125-0164.

Comment Date: 5 p.m. eastern time on Monday, December 12, 2005.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other and the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the web site that enables subscribers to receive e-mail notification when a document is added to a subscribed dockets(s). For assistance with any FERC Online service, please e-mail FERCOnlineSupport@ferc.gov or call (866) 208-3676 (toll free). For TTY, call (202) 502-8659.

Magalie R. Salas,
Secretary.

[FR Doc. E5-7087 Filed 12-8-05; 8:45 am]

BILLING CODE 6717-01-P